DEPARTMENT OF HOMELAND SECURITY

Federal Emergency Management Agency

[Docket ID: FEMA-2010-0040]

Agency Information Collection Activities: Proposed Collection; Comment Request, OMB No. 1660-0015; Revisions to National Flood Insurance Program Maps: Application Forms and Instructions for (C)LOMAs and (C)LOMR-Fs

AGENCY: Federal Emergency Management Agency, DHS.

ACTION: Notice; 60-day notice and request for comments; revision of a currently approved information collection; OMB No. 1660-0015; FEMA Form 086-0-26 Property Information; FEMA Form 08-0-26A Elevation; FEMA Form 086-0-26B Community Acknowledgement; FEMA Form 086-0-22, Application Form for Single Residential Lot or Structure Amendments to National Flood Insurance Program Maps; FEMA Form 086-0-22A, Application Form for Single Residential Lot or Structure Amendments to National Flood Insurance Program Maps (Spanish).

SUMMARY: The Federal Emergency Management Agency (FEMA), as part of its continuing effort to reduce paperwork and respondent burden, invites the general public and other Federal agencies to take this opportunity to comment on a proposed revision of a currently approved information collection. In accordance with the Paperwork Reduction Act of 1995, this Notice seeks comments concerning information required by FEMA to amend or revise National Flood Insurance Program Maps to remove certain property from the 1-percent annual chance floodplain.

DATES: Comments must be submitted on or before September 20, 2010.

ADDRESSES: To avoid duplicate submissions to the docket, please use only one of the following means to submit comments:

(1) Online. Submit comments at www.regulations.gov under Docket ID FEMA-2010-0040. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0040 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FOR FURTHER INFORMATION CONTACT: Contact Ms. Ava Hammond, Program Analyst, Mitigation Directorate, Risk Analysis Division, FEMA at (202) 646-3276 for additional information. You may contact the Office of Records Management for copies of the proposed collection of information at facsimile number (202) 646-3347 or e-mail address: FEMA-Information-Collections-Management@dhs.gov.

SUPPLEMENTARY INFORMATION: With the passage of the Flood Disaster Protection Act of 1973 (42 U.S.C. 4001 et seq.), an owner of a structure, with a federally backed mortgage, located in the 1-percent annual chance floodplain, is required to purchase Federal flood insurance. This was in response to the escalating damage caused by flooding and the unavailability of flood insurance from commercial insurance companies. As part of this effort, the Federal Emergency Management Agency (FEMA) mapped the 1-percent annual chance floodplain in communities. However, due to scale limitations, individual structures that may be above the base flood cannot always be shown as being out of the 1-percent annual chance floodplain. Title 44 CFR 65.17 and 44 CFR 70.3 outline the data that must be submitted for a review of the determination that the structure is not above the base flood level if the owner of the structure wishes to request such. If the information supplied warrants a reversal of the determination, FEMA will issue a Letter of Map Amendment (LOMA) to waive the Federal requirement for flood insurance when data is submitted to show that the property or structure is at or above the elevation of the base flood.

Collection of Information

Title: Revisions to National Flood Insurance Program Maps: Application Forms and Instructions for (C)LOMAs and (C)LOMR-Fs.

Type of Information Collection: Revision of a currently approved information collection.

OMB Number: 1660-0015.

Form Titles and Numbers: FEMA Form 086-0-26 Property Information; FEMA Form 08-0-26A Elevation; FEMA Form 086-0-26B Community Acknowledgement; FEMA Form 086-0-22 Application Form for Single Residential Lot or Structure Amendments to National Flood Insurance Program Maps; FEMA Form 086-0-22A Application Form for Single Residential Lot or Structure Amendments to National Flood Insurance Program Maps (Spanish).

Abstract: This collection of information allows owners of structures that have been found to be in a designated Special Flood Hazard Area (SFHA) the opportunity to request a review of this determination. With the submission of the appropriate documentation, FEMA will conduct a review of the structure in question and either certify the original finding or modify the designation so that it no longer indicates a SFHA identifier. If the structure is found to not be in a SFHA, FEMA will issue a written determination and the appropriate map is modified by a Letter of Map Amendment (LOMA) or a Letter of Map Revision—Based on Fill (LOMR-F). The structure then qualifies for a waiver of flood insurance.

Affected Public: Individuals or households; business or other for profit.

Estimated Total Annual Burden Hours: 129,320 hours.

Estimated Annualized Burden Hours and Costs
Type of respondent | Form name/form number | Number of respondents | Number of responses per respondent | Total number of responses | Avg. burden per response (in hours) | Total annual burden (in hours) | Avg. hourly wage rate | Total annual respondent cost
Homeowners | Property Information Form/FEMA Form 086-0-26 | 26,870 | 1 | 26,870 | 1.63 | 43,798 | $29.26 | $1,281,529
Surveyors | Elevation Form/FEMA Form 086-0-26A | 18,809 | 1 | 18,809 | 1.25 | 23,511 | 35.66 | 838,402
Engineers | Elevation Form/FEMA Form 086-0-26A | 8,061 | 1 | 8,061 | 1.25 | 10,076 | 50.22 | 506,017
Community Officials | Community Acknowledgment Form/FEMA Form 086-0-26B | 4,076 | 1 | 4,076 | 1.38 | 5,625 | 55.97 | 314,831
Homeowners | On-line LOMA/LOMR-F Tutorial | 2,499 | 1 | 2,499 | 0.5 | 1,250 | 29.26 | 36,575
Subtotal |  | 60,315 |  | 60,315 |  | 84,260 |  | 2,977,354
Homeowner | Application Form for Single Residential Lot or Structure Amendments to National Flood Insurance Program Maps/FEMA Form 086-0-22 | 16,428 | 1 | 16,428 | 1.2 | 19,714 | 29.26 | 576,832
Homeowner | Application Form for Single Residential Lot or Structure Amendments to National Flood Insurance Program Maps (Spanish)/FEMA Form 086-0-22A | 2,347 | 1 | 2,347 | 1.2 | 2,816 | 29.26 | 82,396
Subtotal |  | 18,775 |  | 18,775 |  | 22,530 |  | 659,228
Surveyor | Application Form for Single Residential Lot or Structure Amendments to National Flood Insurance Program Maps/FEMA Form 086-0-22 | 11,500 | 1 | 11,500 | 1.2 | 13,800 | 35.66 | 492,108
Surveyor | Application Form for Single Residential Lot or Structure Amendments to National Flood Insurance Program Maps (Spanish)/FEMA Form 086-0-22A | 1,643 | 1 | 1,643 | 1.2 | 1,972 | 35.66 | 70,322
Subtotal |  | 13,143 |  | 13,143 |  | 15,772 |  | 562,430
Engineer | Application Form for Single Residential Lot or Structure Amendments to National Flood Insurance Program Maps/FEMA Form 086-0-22 | 4,928 | 1 | 4,928 | 1.2 | 5,913 | 50.22 | 296,951
Engineer | Application Form for Single Residential Lot or Structure Amendments to National Flood Insurance Program Maps (Spanish)/FEMA Form 086-0-22A | 704 | 1 | 704 | 1.2 | 845 | 50.22 | 42,436
Subtotal |  | 5,632 |  | 5,632 |  | 6,758 |  | 339,437
Total |  | 97,865 |  | 97,865 |  | 129,320 |  | 4,370,376

Estimated Cost: The estimated annual operations and maintenance costs for technical services is $20,540,250. There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 16, 2010.
Tammi Hines,
Acting Director, Records Management Division, Mission Support Bureau, Federal Emergency Management Agency, Department of Homeland Security.

[FR Doc. 2010-17921 Filed 7-21-10; 8:45 am]

BILLING CODE 9110-12-P